DEPARTMENT OF LABOR

Comment Request for Information Collection for Workforce Investment Act National Emergency Grant Program: Application and Reporting Procedures (OMB Control No. 1205-0439), Extension Without Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data supporting the Workforce Investment Act's National Emergency Grant Program: Application and Reporting Procedures (OMB Control No. 1205-0439, expires March 31, 2010).

A copy of the proposed information collection request (ICR) can be obtained by contacting the office listed below in the addressee section of this notice.

DATES: Written comments must be submitted to the office listed in the addressee's section below on or before April 5, 2010.

ADDRESSES: Submit written comments to Jeanette Provost, Office of National Response, Room C-5311, U.S. Department of Labor, Employment and Training Administration, 200 Constitution Avenue, NW., Washington, DC 20210. Telephone number: 202-693-3500 (this is not a toll-free number). E-mail: NEGEsystem@dol.gov.

SUPPLEMENTARY INFORMATION: I. Background: The information collection is necessary for the U.S. Department of Labor's (DOL's) award of National Emergency Grants (NEGs) which are discretionary grants intended to temporarily expand the service capacity at the state and local area levels by providing funding assistance in response to significant dislocation events for workforce development and employment services and other adjustment assistance for dislocated workers and other eligible individuals as defined in sections 101, 134 and 173 of the Workforce Investment Act (WIA) (Pub. L. 105-220); sections 113, 114 and 203 of the Trade Adjustment Assistance (TAA) Reform Act of 2002 (Pub. L. 107-210), as amended by the Trade and Globalization Adjustment Assistance Act (TGAAA) of 2009; and 20 CFR 671.140. Applications are accepted on an ongoing basis as the need for funds arises at the state and local levels.

The provisions of WIA and the Regulations define four NEG project types:

• Regular, which encompasses plant closures, mass layoffs, and multiple layoffs in a single community.

• Disaster, which includes all eligible Federal Emergency Management Agency (FEMA)-declared natural and manmade disaster events.

• TAA-WIA Dual Enrollment, which provides supplemental funding to ensure that a full range of services is available to individuals eligible under the TAA program provisions of the TAA Reform Act of 2002, as amended by the TGAAA.

• TAA Health Insurance Coverage Assistance, which provides specialized health coverage, support services, and income assistance to targeted individuals defined in the TAA program provisions of the TAA Reform Act of 2002, as amended by the TGAAA.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

Type of Review: Extension without changes.

Title: Workforce Investment Act National Emergency Grant.

Program: Application and Reporting Procedures.

OMB Number: 1205-0439.

Affected Public: State and Local Grantees, Tribal Government.

Forms: ETA 9103, Cumulative Planning Form; ETA 9104, Quarterly Report; ETA 9105, Employer Data Form; ETA 9106, Project Synopsis; and ETA 9107, Project Operator Data Form.

Total Respondents: 150.

Frequency: Once per project; for ETA-9104, quarterly per project.

Total Responses: 1,685.

Estimated Total Burden Hours: 1,144.

Total Burden Cost for Respondents: 0.

Comments submitted in response to this comment request will be summarized and/or included in the request for Office of Management and Budget approval of the information collection request; they will also become a matter of public record.

Dated: January 27, 2010.
Jane Oates,
Assistant Secretary, Employment and Training Administration.

[FR Doc. 2010-2102 Filed 2-1-10; 8:45 am]

BILLING CODE 4510-FN-P